DEPARTMENT OF TRANSPORTATION

Federal Aviation Administration

[Docket No. FAA-2024-1472]

Notice of Intent to Designate as Abandoned Dennis Air Service Supplemental Type Certificate No. SA4-1306

AGENCY: Federal Aviation Administration (FAA), DOT.

ACTION: Notice of intent to designate Dennis Air Service supplemental type certificate as abandoned; request for comments.

SUMMARY: This notice announces the FAA's intent to designate Dennis Air Service Supplemental Type Certificate (STC) No. SA4-1306 as abandoned and make the related engineering data available upon request. The FAA has received a request to provide engineering data concerning this STC. The FAA has been unsuccessful in contacting Dennis Air Service concerning the STC. This action is intended to enhance aviation safety.

DATES: The FAA must receive all comments by November 19, 2024.

ADDRESSES: You may send comments on this notice by any of the following methods:

• Federal eRulemaking Portal: Go to https://www.regulations.gov. Follow the instructions for submitting comments.

• Mail: Calvin Hang, AIR-772, Federal Aviation Administration, West Certification Branch, 3960 Paramount Boulevard, Suite 100 Lakewood, CA 90712-4137.

• Email: Calvin.L.Hang@faa.gov. Include “Docket No. FAA-2024-1472 in the subject line of the message.

• Hand Delivery: Deliver to Mail address above between 9 a.m. and 5 p.m., Monday through Friday, except Federal holidays.

FOR FURTHER INFORMATION CONTACT: Calvin Hang, Aerospace Engineer, Federal Aviation Administration, West Certification Branch, 3960 Paramount Boulevard, Suite 100 Lakewood, CA 90712-4137; telephone (562) 627-5254; email Calvin.L.Hang@faa.gov.

SUPPLEMENTARY INFORMATION:

Comments Invited

The FAA invites interested parties to provide comments, written data, views, or arguments relating to this notice. Send your comments to an address listed under the ADDRESSES section. Include “Docket No. FAA-2024-1472 at the beginning of your comments. The FAA will consider all comments received on or before the closing date. All comments received will be available in the docket for examination by interested persons.

Background

The FAA is posting this notice to inform the public that the FAA intends to designate Dennis Air Service STC No. SA4-1306, for the installation of modified nose gear for ERCO 415-C, as abandoned and subsequently release the related engineering data.

The FAA has received a third-party request for the release of data for the installation of modified nose gear under the provisions of the Freedom of Information Act (FOIA), 5 U.S.C. 552. The FAA cannot release commercial or financial information, such as the requested data, under FOIA without the permission of the data owner. However, in accordance with title 49 of the United States Code section 44704(a)(5), the FAA can make STC “engineering data” in possession of the FAA available upon request if the following conditions are met:

1. FAA determines that the STC has been inactive for 3 or more years;

2. Using due diligence, the FAA is unable to locate the owner of record or the owner of record's heir; and

3. The availability of such data will enhance aviation safety.

There has been no activity on this STC for more than 3 years.

On January 22, 2024, the FAA sent a registered letter to Dennis Air Service at its last known address: c/o Chico Municipal Airport, 150 Airpark Blvd., Chico, CA 95973. The letter informed Dennis Air Service that the FAA had received a request for engineering data related to STC No. SA4-1306 and was conducting a due diligence search to determine whether the STC was inactive and may be considered abandoned. The letter further requested that the company respond in writing within 60 days and state whether it is the holder of the STC. The FAA has also attempted to make contact with Dennis Air Service by other means, including telephone communication and emails, but without success.

Information Requested

If you are the owner or heir or a transferee of STC No. SA4-1306 or have any knowledge regarding who may now hold STC No. SA4-1306, please contact Calvin Hang using a method described in this notice under FOR FURTHER INFORMATION CONTACT. If you are the heir of the owner, or the owner by transfer, of STC No. SA4-1306, you must provide a notarized copy of your government-issued identification with a letter and background establishing your ownership of the STC and, if applicable, your relationship as the heir to the deceased holder of the STC.

Conclusion

If the FAA does not receive any response by November 19, 2024, the FAA will consider STC No. SA4-1306 abandoned, and the FAA will proceed with the release of the requested data. This action is for the purpose of maintaining the airworthiness of an aircraft and enhancing aviation safety.

Issued on May 17, 2024.
Victor Wicklund,
Deputy Director, Compliance & Airworthiness Division, Aircraft Certification Service.

[FR Doc. 2024-11268 Filed 5-22-24; 8:45 am]

BILLING CODE 4910-13-P